DEPARTMENT OF TRANSPORTATION

Federal Aviation Administration

14 CFR Parts 121 and 139

[Docket No. FAA-2000-7479; Notice No. 00-05]

RIN 2120-AG96

Certification of Airports; Extension of Comment Period

AGENCY: Federal Aviation Administration (FAA), DOT.

ACTION: Notice of proposed rulemaking (NPRM); extension of comment period.

SUMMARY: This action extends the comment period for an NPRM that was published on June 21, 2000. In that document, the FAA proposed to revise the current airport certification regulation and a section of an air carrier operation regulation. This extension is a result of requests from the Augusta (ME) State Airport, the Hancock County-Bar Harbor (ME) Airport, and the State of Maine Department of Transportation to extend the comment period to the proposal.

DATES: Comments must be received on or before November 3, 2000.

ADDRESSES: Comments on this document should be mailed or delivered, in duplicate, to: U.S. Department of Transportation Dockets, Docket No. FAA-2000-7479, 400 Seventh Street, SW., Room Plaza 401, Washington, DC 20590. Comments may be filed and examined in Room Plaza 401 between 10 a.m. and 5 p.m. weekdays, except Federal holidays. Comments also may be sent electronically to the Dockets Management System (DMS) at the following Internet address: http://dms.dot.gov at any time. Commenters who wish to file comments electronically, should follow the instructions on the DMS web site.

FOR FURTHER INFORMATION CONTACT: Linda Bruce, Airport Safety and Operations Division (AAS-300), Office of Airport Safety and Standards, Federal Aviation Administration, 800 Independence Ave., SW., Washington, DC 20591; telephone: (202) 267-8553 or E-mail: linda.bruce@faa.gov.

SUPPLEMENTARY INFORMATION:

Comments Invited

Interested persons are invited to participate in this rulemaking by submitting such written data, views, or arguments, as they may desire. Comments relating to the environmental, energy, federalism, or economic impact that might result from adopting the proposals in this document are also invited. Substantive comments should be accompanied by cost estimates. Comments should identify the regulatory docket or notice number and should be submitted in duplicate to the Rules Docket address specified above.

All comments received, as well as a report summarizing each substantive public contact with FAA personnel on this rulemaking, will be filed in the docket. The docket is available for public inspection before and after the comment closing date.

The Administrator will consider all comments received on or before the closing date before taking action on this proposed rulemaking. Comments filed late will be considered as far as possible without incurring expense or delay. The proposals contained in this rulemaking may be changed in light of the comments received.

Commenters wishing the FAA to acknowledge receipt of their comments submitted in response to this notice must include a pre-addressed, stamped postcard with those comments on which the following statement is made: “Comments to Docket No. FAA-2000-7479.” The postcard will be date stamped and mailed to the commenter.

Availability of NPRMs

An electronic copy is available on the Internet by taking the following steps:

(1) Go to the search function of the Department of Transportation's electronic Docket Management System (DMS) Web page (http://dms.dot.gov/search).

(2) On the search page type in the last four digits of the Docket number shown at the beginning of this notice. Click on “search.”

(3) On the next page, which contains the Docket summary information for the Docket selected, click on the proposed rule.

An electronic copy is also available on the Internet through FAA's web page at http://www.faa.gov/avr/arm/nprm/nprm.htm or the Federal Register's web page at http://www.access.gpo.gov/su_docs/aces/aces140.html.

Further, a copy may be obtained by submitting a written request to the Federal Aviation Administration, Office of Rulemaking, ARM-1, 800 Independence Avenue SW., Washington, DC 20591, or by calling (202) 267-9680. Make sure to identify the notice number or docket number of this proposed rule.

Background

On June 21, 2000, the Federal Aviation Administration (FAA) issued Notice No. 00-05, Certification of Airports (65 FR 38636, June 21, 2000). Comments to that document were to be received on or before September 19, 2000.

By letters dated July 13 and August 2, 2000, the Augusta (ME) State Airport, the Hancock County-Bar Harbor (ME) Airport, and the State of Maine Department of Transportation requested that the FAA extend the comment period for Notice No. 00-05 until December 20, 2000. Operators of these airports stated that the FAA has underestimated the economic impact of the proposal on their facilities, which would be newly certificated airports under the proposal. The State of Maine Department of Transportation is concerned about the economic implications of the proposal on certain airports. All petitioners requested an extension of the comment period by 90 days to provide sufficient time to obtain cost data and fully evaluate this proposal before submitting comments to the FAA.

While the FAA concurs with the petitioners' requests for an extension of the comment period on Notice No. 00-05, the FAA believes that a 90-day extension would be excessive. As Notice No. 00-05 is lengthy, the FAA provided a 90-day comment period. Although the FAA agrees that additional time for comments may be needed by operators of airports that would be newly certificated under the proposal, this need must be balanced against the need to proceed expeditiously with a rulemaking that Congress has indicated needs to be completed. The FAA believes an additional 45 days would be adequate for these petitioners to collect cost and operational data necessary to provide meaningful comment to Notice No. 00-05. This will also allow commenters who may have anticipated an extension in the comment period to submit their comments by a date certain. Absent unusual circumstances, the FAA does not anticipate any further extension of the comment period for this rulemaking.

Extension of Comment Period

In accordance with § 11.29(c) of Title 14, Code of Federal Regulations, the FAA has reviewed the petitions made by Augusta (ME) State Airport, the Hancock County-Bar Harbor (ME) Airport, and the State of Maine Department of Transportation for extension of the comment period to Notice No. 00-05. These petitioners have shown a substantive interest in the proposed rule and good cause for the extension. The FAA also has determined that extension of the comment period is consistent with the public interest, and that good cause exists for taking this action.

Accordingly, the comment period for Notice No. 98-5 is extended until November 3, 2000.

David L. Bennett,
Director, Office of Airport Safety and Standards.

[FR Doc. 00-21262 Filed 8-21-00; 8:45 am]

BILLING CODE 4910-13-M